DEPARTMENT OF HEALTH AND HUMAN SERVICES

Administration for Children and Families

Submission for OMB Review; Office of Child Care Data Collection for ACF-218: FFY 2021 Quality Progress Report (QPR) (OMB #0970-0517)

AGENCY: Office of Child Care, Administration for Children and Families, HHS.

ACTION: Request for public comment.

SUMMARY: The Office of Child Care (OCC) is requesting a 1-year extension of the form ACF-218: Quality Progress Report (QPR) (OMB #0970-0517, expiration 9/30/2021). There are minor changes requested to the form related to COVID-19 pandemic supplemental funding increases.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION: Description: Lead Agencies are required to spend a certain percent of their Child Care and Development Fund (CCDF) awards on activities to improve the quality of child care. Lead Agencies are also required to invest in at least 1 of 10 allowable quality activities included in the Child Care and Development Block Grant (CCDBG) Act of 2014. In order to ensure that states and territories are meeting these requirements, the CCDBG Act and the CCDF final rule require Lead Agencies to submit an annual report that describes how quality funds were expended. The CCDF final rule named this the QPR. The report must describe how quality funds were expended, including what types of activities were funded and measures used to evaluate progress in improving the quality of child care programs and services. The QPR increased transparency on quality spending and will continue to gather detailed information on how states and territories are spending their quality funds, as well as more specific data points to reflect the requirements in the CCDBG Act and the CCDF final rule. The annual data provided by the QPR will be used to describe how lead agencies are spending a significant investment per year to key stakeholders, including Congress, federal, state and territory administrators, providers, parents, and the public.

Specifically, this report will be used to:

• Ensure accountability and transparency for the use of CCDF quality funds, including a set-aside for quality infant and toddler care and the stabilization grants funded by the American Rescue Plan Act funding;

• Track progress toward meeting state- and territory-set indicators and benchmarks for improvement of child care quality based on goals and activities described in CCDF Plans;

• Understand efforts to progress towards all child care settings meeting the developmental needs of children; and

• Inform federal technical assistance efforts and decisions regarding strategic use of quality funds.

Respondents: State and territory CCDF lead agencies (56).

Annual Burden Estimates
Instrument | Total number of respondents | Annual number of responses per respondent | Average burden hours per response | Annual burden hours
ACF-218: FFY 2021 QPR | 56 | 1 | 75 | 4,200

Authority: 42 U.S.C. 9858.

Mary B. Jones,
ACF/OPRE Certifying Officer.

[FR Doc. 2021-23644 Filed 10-28-21; 8:45 am]

BILLING CODE 4184-43-P